COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List a product and services to be furnished by nonprofit agencies employing persons who are blind or have other severe disabilities, and deletes from the Procurement List products and services previously furnished by such agencies.

DATES: Effective Date: August 19, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On May 25, 2007, the Committee for Purchase From People Who Are Blind or Severely Disabled published notice (72 FR 8149; 29295-29296) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following product and services are added to the Procurement List:

Product:

Hood, Anti-Flash, Firemens,

NSN: 4210-01-493-4694—DAF-S-1 (20% KEVLAR/80% FR Rayon)—2 ply.

Coverage: C-List—100% for the requirements of the Defense Supply Center Philadelphia, Philadelphia, PA.

NPA: Dawn Enterprises, Inc., Blackfoot, ID.

Contracting Activity: Defense Supply Center Philadelphia, Philadelphia, PA.

Services:

Service Type/Location: Custodial & Grounds Maintenance, Joseph P. Kinneary Federal Courthouse, 85 Marconi Boulevard, Columbus, OH.

NPA: The Alpha Group of Delaware, Inc., Delaware, OH.

Contracting Activity: General Services Administration, Public Building Service, Region 5, Cleveland, OH.

Service Type/Location: Custodial Services, Fort AP Hill, Camp Anderson, Bowling Green, VA.

NPA: Rappahannock Goodwill Industries, Inc., Fredericksburg, VA.

Contracting Activity: Army Contracting Agency, Aberdeen Proving Ground, MD.

Service Type/Location: Custodial Services, U.S. Department of Agriculture, Animal and Plant Health Inspection Service, 843 13th Court—Unit 7, Riviera Beach, FL.

NPA: Gulfstream Goodwill Industries, Inc., West Palm Beach, FL.

Contracting Activity: U.S. Department of Agriculture, Animal & Plant Health Inspection Service-MRP-BS ASD, Minneapolis, MN.

Service Type/Location: Custodial/Grounds Maintenance, Syracuse Military Entrance Processing Station (MEPS), 6001 E. Mallory Road, Building 710, Syracuse, NY.

NPA: Oswego Industries, Inc., Fulton, NY.

Contracting Activity: AFRC—Niagara, Niagara Falls, NY.

Service Type/Location: Document Destruction, Internal Revenue Service, 550 W. Fort Street, Boise, ID.

NPA: Western Idaho Training Company, Inc., Caldwell, ID.

Contracting Activity: U.S. Department of Treasury, Internal Revenue Service, San Francisco, CA

Service Type/Location: Janitorial/Landscaping Services, U.S. Department of Agriculture, Agricultural Research Service, 430 West Health Services Drive, Davis, CA.

NPA: PRIDE Industries, Inc., Roseville, CA.

Contracting Activity: U.S. Department of Agriculture, Agricultural Research Service-Pacific West Area, Albany, CA.

Service Type/Location: Supply/Warehouse/HAZMAT Service, Meridian Naval Air Station, 224 Allen Rd, Meridian, MS.

NPA: South Texas Lighthouse for the Blind, Corpus Christi, TX.

Contracting Activity: Fleet and Industrial Supply Center, Jacksonville, FL.

Deletions

On February 23, and May 25, 2007, the Committee for Purchase From People Who Are Blind or Severely Disabled published notice (72 FR 8149; 29296) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products:

PCU, Level 7 Loft Jacket—Type 2:

NSN: 8415-00-NSH-1647—Size LL,

NSN: 8415-00-NSH-1649—Size XLL,

NSN: 8415-00-NSH-1652—Size XXLL,

NSN: 8415-00-NSH-1654—Size XXXLL.

NPA: Southeastern Kentucky Rehabilitation Industries, Inc., Corbin, KY.

Contracting Activity: U.S. Army RDECOM Acquisition Center, Natick, MA.

Pencil, Mechanical, Push-Action (MD):

NSN: 7520-01-484-3907—Pencil, Mechanical, Push-Action (MD),

NSN: 7520-01-484-3908—Pencil, Mechanical, Push-Action (MD).

NPA: San Antonio Lighthouse for the Blind, San Antonio, TX.

Contracting Activity: General Services Administration, Office Supplies & Paper Products Acquisition Ctr, New York, NY.

Services:

Service Type/Location: Grounds Maintenance, Hill Air Force Base, Hill Air Force Base, UT.

NPA: Pioneer Adult Rehabilitation Center Davis County School District, Clearfield, UT.

Contracting Activity: Hill Air Force Base, UT.

Service Type/Location: Janitorial/Custodial, Navy Exchange Command Accounting (CAC), Norfolk, VA.

NPA: Didlake, Inc., Manassas, VA.

Service Type/Location: Janitorial/Custodial, Navy Exchange Command Uniform Support Center, Bldg 1545, Crossways Blvd, Chesapeake, VA.

NPA: Portco, Inc., Portsmouth, VA.

Contracting Activity: Navy Exchange Service Command (NEXCOM), Virginia Beach, VA.

Service Type/Location: Microfilming, Department of Treasury, Financial Management Services, Hyattsville, MD.

NPA: Didlake, Inc., Manassas, VA.

Contracting Activity: Department of the Treasury, Washington, DC.

Kimberly M. Zeich,
Director, Program Operations.

[FR Doc. E7-14048 Filed 7-19-07; 8:45 am]

BILLING CODE 6353-01-P